DEPARTMENT OF COMMERCE

National Oceanic and Atmospheric Administration

50 CFR Part 648

[I.D. 122304D]

RIN 0648-AN25

Magnuson-Stevens Fishery Conservation and Management Act Provisions; Fisheries of the Northeastern United States; Monkfish Fishery; Amendment 2 to the Monkfish Fishery Management Plan; Correction

AGENCY: National Marine Fisheries Service (NMFS), National Oceanic and Atmospheric Administration (NOAA), Commerce.

ACTION: Notice of availability; request for comments; correction.

SUMMARY: On January 3, 2005, NMFS published a notification that the New England Fishery Management Council and the Mid-Atlantic Fishery Management Council have submitted Amendment 2 to the Monkfish Fishery Management Plan (FMP) (Amendment 2) incorporating the draft Final Supplemental Environmental Impact Statement (FSEIS), Regulatory Impact Review (RIR), and the Initial Regulatory Flexibility Analysis (IRFA), for Secretarial review and requested comments from the public. Amendment 2 was developed to address essential fish habitat and bycatch issues, and to revise the FMP to address several issues raised during the public scoping process. In the January 3, 2005, notification, NMFS inadvertently referred to this action as a proposed interim rule. This document corrects that error.

DATES: Comments on Amendment 2 to the Monkfish FMP must be received on or before March 3, 2005.

FOR FURTHER INFORMATION CONTACT: Allison R. Ferreira, Fishery Policy Analyst, phone: (978) 281-9103; fax: (978) 281-9135; e-mail: allison.ferreira@noaa.gov.

SUPPLEMENTARY INFORMATION: An NOA for Amendment 2 to the Monkfish FMP was published in the Federal Register on January 3, 2005 (70 FR 68), with public comment accepted through March 3, 2005. Public comments are being solicited on Amendment 2 and its incorporated documents through the end of the comment period on the NOA (i.e., March 3, 2005). A proposed rule that would implement Amendment 2 may be published in the Federal Register for public comment, following NMFS's evaluation of the proposed rule under the procedures of the Magnuson-Stevens Fishery Conservation and Management Act (Magnuson-Stevens Act). All comments received by March 3, 2005, whether specifically directed to Amendment 2 or the proposed rule, will be considered in the approval/disapproval decision on the amendment. To be considered, comments must be received by close of business on March 3, 2005; that does not mean postmarked or otherwise transmitted by that date.

NMFS in the ADDRESSES section of the January 3rd publication inadvertently referred to the amendment as a “proposed interim rule.” However, because a proposed rule may be published in the near future following NMFS's evaluation of the proposed rule under the procedures of the Magnuson-Stevens Act, NMFS is correcting the NOA Federal Register publication to identify clearly that the January 3, 2005, publication is requesting public comments on the Amendment 2 document along with the FSEIS, RIR, and IRFA.

Therefore, in the NOA for Amendment 2 to the Monkfish FMP published on January 3, 2005, which was the subject of FR Doc 04-28738, in the second line of the ADDRESSES section in the first column on page 68, the words “proposed interim rule” are removed and in their place the words “proposed amendment” are added.

Authority: 16 U.S.C. 1801 et seq.

Dated: January 5, 2005.
Alan D. Risenhoover,
Acting Director, Office of Sustainable Fisheries, National Marine Fisheries Service.

[FR Doc. 05-625 Filed 1-11-05; 8:45 am]

BILLING CODE 3510-22-S